DEPARTMENT OF HEALTH AND HUMAN SERVICES

National Institutes of Health

National Institute on Alcohol Abuse and Alcoholism; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute on Alcohol Abuse and Alcoholism Initial Review Group; Clinical, Treatment and Health Sciences Research Review Subcommittee.

Date: October 15, 2014.

Time: 8 a.m. to 5 p.m.

Agenda: To review and evaluate grant proposals.

Place: NIAAA, NIH, 5635 Fishers Lane, Terrace Level Conference Room, Rockville, MD 20852.

Contact Person: Katrina L. Foster, Ph.D., Scientific Review Officer, National Institute on Alcohol Abuse and Alcoholism, NIH, 5635 Fishers Lane; Room 2019, Rockville, MD 20852, (301) 443-4032, katrina@mail.nih.gov.

Name of Committee: National Institute on Alcohol Abuse and Alcoholism Initial Review Group; Biomedical Research Review Subcommittee.

Date: October 21, 2014.

Time: 8 a.m. to 5 p.m.

Agenda: To review and evaluate grant proposals.

Place: NIAAA, NIH, 5635 Fishers Lane, Terrace Level Conference Room, Rockville, MD 20852.

Contact Person: Philippe Marmillot, Ph.D., Scientific Review Officer, National Institute on Alcohol Abuse and Alcoholism, NIH, 5635 Fishers Lane; Room 2017, Rockville, MD 20852, (301) 443-2861, marmillotp@mail.nih.gov.

Name of Committee: National Institute on Alcohol Abuse and Alcoholism Initial Review Group; Epidemiology, Prevention and Behavior Research Review Subcommittee.

Date: October 22, 2014.

Time: 8 a.m. to 5 p.m.

Agenda: To review and evaluate grant proposals.

Place: NIAAA, 5635 Fishers Lane, Terrace Level Conference Room, Rockville, MD 20852.

Contact Person: Katrina L. Foster, Ph.D., Scientific Review Officer, National Institute on Alcohol Abuse and Alcoholism, NIH, 5635 Fishers Lane; Room 2019, Rockville, MD 20852, (301) 443-4032, katrina@mail.nih.gov.

Name of Committee: National Institute on Alcohol Abuse and Alcoholism Initial Review Group; Neuroscience Review Subcommittee.

Date: November 4-5, 2014.

Time: 8 a.m. to 5 p.m.

Agenda: To review and evaluate grant proposals.

Place: NIAAA, NIH, 5635 Fishers Lane, Terrace Level Conference Room, Rockville, MD 20852.

Contact Person: Beata Buzas, Ph.D., Scientific Review Officer, National Institute on Alcohol Abuse and Alcoholism, NIH, 5635 Fishers Lane; Room 2081, Rockville, MD 20852, (301) 443-0800, bbuzas@mail.nih.gov.

(Catalogue of Federal Domestic Assistance Program Nos. 93.271, Alcohol Research Career Development Awards for Scientists and Clinicians; 93.272, Alcohol National Research Service Awards for Research Training; 92.273, Alcohol Research Programs; 93.891, Alcohol Research Center Grants; 93.701, ARRA Related Biomedical Research and Research Supports Awards, National Institutes of Health, HHS)

Dated: September 8, 2014.
Melanie J. Gray,
Program Analyst, Office of Federal Advisory Committee Policy.

[FR Doc. 2014-21721 Filed 9-11-14; 8:45 am]

BILLING CODE 4140-01-P